DEPARTMENT OF HOMELAND SECURITY

Federal Emergency Management Agency

[Docket ID FEMA-2021-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The date of June 2, 2021 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Department of Homeland Security, Federal Emergency Management Agency.

Community | Community map repository address
Los Angeles County, California and Incorporated Areas
Docket No.: FEMA-B-1951
City of Santa Clarita | City Hall, 23920 Valencia Boulevard, Suite 300, Santa Clarita, CA 91355.
Unincorporated Areas of Los Angeles County | Los Angeles County Watershed Management, 900 South Fremont Avenue, Alhambra, CA 91803.
Manistee County, Michigan (All Jurisdictions)
Docket No.: FEMA-B-2001
Charter Township of Filer | Filer Charter Township Hall, 2505 Filer City Road, Manistee, MI 49660.
City of Manistee | Manistee County Planning Department, 415 Third Street, Manistee, MI 49660.
Township of Arcadia | Township Hall, 3422 Lake Street, Arcadia, MI 49613.
Township of Brown | Brown Township Hall, 8233 Coates Highway, Manistee, MI 49660.
Township of Manistee | Township Hall, 410 Holden Street, Manistee, MI 49660.
Township of Onekama | Township Offices, 5435 Main Street, Onekama, MI 49675.
Township of Pleasanton | Pleasanton Township Hall, 8958 Lumley Road, Bear Lake, MI 49614.
Township of Stronach | Stronach Township Hall, 2471 Main Street, RR3, Manistee, MI 49660.
Village of Eastlake | Village Hall, 175 South Main Street, Eastlake, MI 49626.
Village of Onekama | Village Offices, 5283 Main Street, Onekama, MI 49675.
Onslow County, North Carolina and Incorporated Areas
Docket No.: FEMA-B-1718
Town of Holly Ridge | Town Hall, 212 North Dyson Street, Holly Ridge, NC 28445.
Town of North Topsail Beach | Town Hall, 2008 Loggerhead Court, North Topsail Beach, NC 28460.
Unincorporated Areas of Onslow County | Onslow County Floodplain Administration, 234 Northwest Corridor Boulevard, Jacksonville, NC 28540.

[FR Doc. 2021-03768 Filed 2-23-21; 8:45 am]

BILLING CODE 9110-12-P